DEPARTMENT OF EDUCATION

[CFDA No.: 84.132C]

Centers for Independent Living; Notice Inviting Applications for New Awards for Fiscal Year (FY) 2002

Purpose of Program: This program provides support for planning, conducting, administering, and evaluating centers for independent living (centers) consistent with the State plan for establishing a statewide network of centers.

Eligible Applicants: To be eligible to apply, an applicant must—(a) Be a consumer-controlled, community-based, cross-disability, nonresidential, private nonprofit agency that is designed and operated within a local community by individuals with disabilities and provides an array of independent living services; (b) have the power and authority to meet the requirements in 34 CFR 366.2(a)(1); (c) be able to plan, conduct, administer, and evaluate a center consistent with the requirements in subparts F and G of 34 CFR part 366; and (d) either—(1) Not currently be receiving funds under part C of chapter 1 of title VII of the Act; or (2) propose the expansion of an existing center through the establishment of a separate and complete center (except that the governing board of the existing center may serve as the governing board of the new center) at a different geographical location. Eligibility under this competition is limited to entities proposing to serve areas that are unserved or underserved in the States and territories listed under Available Funds and Estimated Number of Awards.

Applications Available: June 25, 2002.

Deadline for Transmittal of Applications: August 1, 2002.

Deadline for Intergovernmental Review: September 30, 2002.

Estimated Available Funds: $1,252,125.00.

Estimated Number of Awards: 27, distributed in the following manner:

Eligible entities | Available funds | Estimated number of awards
American Samoa | $154,046 | 1
Florida | 150,000 | 1
Georgia | 124,113 | 1
Illinois | 135,164 | 6
Indiana | 65,306 | 3
Kansas | 35,448 | 1
Nevada | 35,448 | 1
Ohio | 94,700 | 1
Oregon | 29,337 | 1
Pennsylvania | 133,490 | 1
Puerto Rico | 12,492 | 1
South Dakota | 35,448 | 1
Texas | 200,000 | 1
Utah | 11,816 | 2
Wisconsin | 35,317 | 5

Estimated Range of Awards: $5,908 to $200,000.

Estimated Average Size of Awards: $46,375.

Note: The Department is not bound by any estimates in this notice.

Project Period: Up to 60 months.

Applicable Regulations: (a) The Education Department, General Administrative Regulations (EDGAR) in 34 CFR parts 74, 75, 77, 79, 80, 81, 82, 85, and 86. (b) The regulations for this program in 34 CFR parts 364 and 366.

Priority

Competitive Preference Priority:

We give preference to applications that meet the competitive preference priority in the notice of final competitive preference for this program, published in the Federal Register on November 22, 2000 (65 FR 70408). Under 34 CFR 75.105(c)(2)(i), up to 10 points may be earned based on the extent to which an application includes effective strategies for employing and advancing in employment qualified individuals with disabilities as project employees in projects awarded in this competition. In determining the effectiveness of those strategies, we will consider the applicant's prior success, as described in the application, in employing and advancing in employment qualified individuals with disabilities. Therefore, within this competitive preference, applicants can be awarded up to a total of 10 points in addition to those awarded under the selection criteria in 34 CFR 366.27, for a total possible score of 110 points.

For Applications Contact: Education Publications Center (ED Pubs), PO Box 1398, Jessup, MD 20794-1398. Telephone (toll free): 1-877-433-7827. Fax: (301) 470-1244. If you use a telecommunications device for the deaf (TDD), you may call (toll free): 1-877-576-7734.

You may also contact ED Pubs via its Web site: http://www.ed.gov/pubs/edpubs.html.

Or you may contact ED Pubs at its e-mail address: edpubs@inet.ed.gov.

If you request an application from ED Pubs, be sure to identify this competition as follows: CFDA number 84.132C.

Individuals with disabilities may obtain a copy of the application package in an alternative format (e.g., Braille, large print, audiotape, or computer diskette) by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

FOR FURTHER INFORMATION CONTACT: James Billy, U.S. Department of Education, 400 Maryland Avenue, SW., room 3326, Switzer Building, Washington, DC 20202-2741. Telephone: (202) 205-9362. If you use a telecommunications device for the deaf (TDD), you may call the Federal Information Relay Service (FIRS) at 1-800-877-8339.

Individuals with disabilities may obtain a copy of this notice in an alternative format on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 796a, 796f, 796f-1, and 796f-4.

Dated: June 17, 2002.
Robert H. Pasternack,
Assistant Secretary for Special Education and Rehabilitative Services.

[FR Doc. 02-16027 Filed 6-24-02; 8:45 am]

BILLING CODE 4000-01-P